DEPARTMENT OF STATE

[Public Notice: 8891]

In the Matter of the Designation of Murad Margoshvili, also known as Muslim Abu al-Walid al-Shishani, also known as Muslim al-Shishani, also known as Murad Muslim Akhmetovich Margoshvili, also known as Murad Akhmetovich Margoshvili, also known as Murad Madaev, also known as Muslim, also known as Murad Akhmadovich Madayev, also known as Muslim Georgia, also known as Lova Margoshvili, also known as Murad Madayev, also known as Lova Madaev, also known as Muslim Akmadovich Margoshvili, also known as Muslim Akhmetovich Georgik Margoshvili, also known as Dzhorzhik, also known as Dzhordzhik, also known as Kus, also known as Artur, as a Specially Designated Global Terrorist pursuant to Section 1(b) of Executive Order 13224, as amended

Acting under the authority of and in accordance with section 1(b) of Executive Order 13224 of September 23, 2001, as amended by Executive Order 13268 of July 2, 2002, and Executive Order 13284 of January 23, 2003, I hereby determine that the individual known as Murad Margoshvili, also known as Muslim Abu al-Walid al-Shishani, also known as Muslim al-Shishani, also known as Murad Muslim Akhmetovich Margoshvili, also known as Murad Akhmetovich Margoshvili, also known as Murad Madaev, also known as Muslim, also known as Murad Akhmadovich Madayev, also known as Muslim Georgia, also known as Lova Margoshvili, also known as Murad Madayev, also known as Lova Madaev, also known as Muslim Akmadovich Margoshvili, also known as Muslim Akhmetovich Georgik Margoshvili, also known as Dzhorzhik, also known as Dzhordzhik, also known as Kus, also known as Artur, committed, or poses a significant risk of committing, acts of terrorism that threaten the security of U.S. nationals or the national security, foreign policy, or economy of the United States.

Consistent with the determination in section 10 of Executive Order 13224 that “prior notice to persons determined to be subject to the Order who might have a constitutional presence in the United States would render ineffectual the blocking and other measures authorized in the Order because of the ability to transfer funds instantaneously,” I determine that no prior notice needs to be provided to any person subject to this determination who might have a constitutional presence in the United States, because to do so would render ineffectual the measures authorized in the Order.

This notice shall be published in the Federal Register.

Dated: September 19, 2014.
John F. Kerry,
Secretary of State.

[FR Doc. 2014-23530 Filed 10-1-14; 8:45 am]

BILLING CODE 4710-10-P